DEPARTMENT OF LABOR

Employment and Training Administration

[TA-W-39,568]

Alcatel Submarine Networks, Inc., Portland, Oregon; Notice of Negative Determination Regarding Application for Reconsideration

By application of October 2, 2001, the company requested administrative reconsideration of the Department's negative determination regarding eligibility for workers and former workers of the subject firm to apply for Trade Adjustment Assistance (TAA). The denial notice applicable to workers of Alcatel Submarine Networks, Inc., Portland, Oregon was issued on August 28, 2001, and was published in the Federal Register on September 11, 2001 (66 FR 47241).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The investigation findings revealed that criterion (3) of the group eligibility requirements of section 222 of the Trade Act of 1974 was not met. The decision was based on threatened sales decreases at the subject firm being affiliated exclusively to foreign customers and not domestic customers of Alcatel Submarine Networks, Inc., Portland, Oregon. Loss of export sales cannot be used as the basis for certification under the Trade Act of 1974.

The request for reconsideration shows that the company does have domestic customers. The company supplied a list of domestic customers with their request for reconsideration.

The review of data supplied during the initial investigation shows that plant sales, production and employment were relatively stable (upward bias) during the period of the investigation and therefore a survey would not have been conducted.

Based on the information supplied during the initial investigation, it appears that a shift in plant production to a foreign source may have recently occurred, with the possibility of fiber optic cable being imported back to the United States from an affiliated source. These events are beyond the relevant period of the initial investigation. Therefore, petitioners are encouraged to reapply for TAA if the events, as discussed, occurred since the outcome of the initial decision.

Conclusion

After review of the application and investigative findings, I conclude that there has been no error or misinterpretation of the law or of the facts which would justify reconsideration of the Department of Labor's prior decision. Accordingly, the application is denied.

Signed at Washington, DC, this 4th day of February 2002.
Edward A. Tomchick,
Director, Division of Trade Adjustment Assistance.

[FR Doc. 02-5573 Filed 3-7-02; 8:45 am]

BILLING CODE 4510-30-M